INTER-AMERICAN FOUNDATION

Sunshine Act Meetings

TIME AND DATE: August 3, 2021, 2:00 p.m.-3:30 p.m.

PLACE: Via tele-conference.

STATUS: Meeting of the IAF Advisory Council, open to the public.

MATTERS TO BE CONSIDERED:

Call to order

IAF President/CEO Report

Management Team Updates

Adjournment

Portion to be Closed to the Public:

Executive session closed to the public as provided for by 22 CFR 1004.4(b)

CONTACT PERSON FOR MORE INFORMATION: Aswathi Zachariah, General Counsel, (202) 683-7118.

For Dial-in Information Contact: Karen Vargas, Board Liaison, (202) 524-8869.

The Inter-American Foundation is holding this meeting under the Government in the Sunshine Act, 5 U.S.C. 552(b).

Aswathi Zachariah,
General Counsel.

[FR Doc. 2021-16486 Filed 7-29-21; 11:15 am]

BILLING CODE 7025-01-P